DEPARTMENT OF THE INTERIOR

[No. CIV90-0957CH/WWD]

Notice of Distribution of Partial Settlement: Ramah Navajo Chapter v. Bruce Babbitt

AGENCY: Bureau of Indian Affairs, Interior.

ACTION: Notice.

SUMMARY: A Notice of the Distribution of Partial Settlement and Hearing is contained in this announcement. The Notice describes procedures for the payment and distribution of the Common Fund, including eligibility for payment, necessary documentation and related information.

FOR FURTHER INFORMATION CONTACT: Michael P. Gross, Class Counsel, 460 St. Michael's Drive, #300, Santa Fe, New Mexico 87505; Telephone No. (505) 983-6686; Fax (505) 989-1096; E-mail address: mpgoss@santa-fe.net; or C. Bryant Rogers, Co-Class Counsel, Roth, VanAmberg, Rogers, Ortiz, Fairbanks & Yepa LLP, 347 East Palace Avenue, Post Office Box 1447, Santa Fe, New Mexico 87504-1447; Telephone No. (505) 988-8979; Fax (505) 983-7508; E-mail: rogers@trail.com.

SUPPLEMENTARY INFORMATION: The Class Distribution Notice in Ramah Navajo Chapter v. Bruce Babbitt, Secretary of the Interior; Kevin Gover, Assistant Secretary of the Indian Affairs; Robert J. Williams, Acting Inspector General; U.S. Department of the Interior and the United States of America (CIV No. 90-0957 LH/WWD), before the United States District Court for the District of New Mexico, reads as set forth below.

Class Distribution Notice Number 1

With this notice, Class Counsel are commencing distribution of the partial settlement paid by Defendants on September 8, 1999. The Net Common Fund to be distributed as of September 8, 1999, was $70,738,749.91, to be augmented by the remaining balance in the Reserve Account to which all interest accruals on the Net Common Fund and Reserve Account are deposited.

The proceeds of the partial settlement were deposited pursuant to Court Order in the Court Registry Investment System administered by the Clerk of the United States District Court for the Southern District of Texas (Houston). Since that time, the Class has engaged as the Independent CPA the Albuquerque firm of Rogoff Erickson Diamond & Walker, L.L.P. The purpose of this Notice is:

1. To publish a Provisional List of Class Members believed to be eligible for an allocation from the Net Common Fund.

2. To give notice to any tribe or tribal entity not on the Provisional List of procedures it must follow in order to challenge its omission from the list.

3. To give notice to all Class Members of the requirement to submit a timely Claim Form with requested documents and to submit a Certificate of Lack of Documentation if the “Schedule of Federal Financial Assistance” from its single agency audit cannot be located for any settlement year.

4. To give notice and an opportunity to object to a conditional agreement reached by Class Counsel and a group of tribes or tribal entities which negotiate indirect cost rates with the Division of Cost Allocation of the Department of Health and Human Services (DCA tribes) instead of with the Office of Inspector General of the Department of the Interior (OIG).

5. To give notice and an opportunity to opt out of the Class with respect to additional claims added to the Plaintiffs, complaint to enlarge the scope of damage claims for indirect cost shortfalls beyond those previously litigated in this action.

I. Who Will Qualify for A Share in the Settlement?

To qualify under the Partial Settlement Agreement (PSA) for a share in the current settlement, you must be an eligible Class Member; i.e.:

A. Have had a Public Law 93-638 contract or compact or school grant in any or part of any settlement year (FY 1989 through FY 1993 or CY 1989 through CY 1993);

B. Have had an indirect cost rate with the Office of Inspector General (OIG) of the Department of the Interior or a lump sum agreement for contract support from the Bureau of Indian Affairs (BIA) in any or part of any settlement year; and

C. Have received “other federal agency” funding as defined in the PSA in any or part of any settlement year.

Tribes and entities who negotiated indirect cost rates with the Division of Cost Allocation (DCA) of the Department of Health and Human Services will qualify for a share only if approved by the Court (see part IV. DCA Tribes).

II. Provisional List of Class Members and Procedure for Challenge

Attached to this notice is a list compiled by Class Counsel of tribes and tribal entities believed to be members of the Class which may be eligible for an allocation from the Net Common Fund.

The list is also published on the Class web site www.rncclassaction.santa-fe.net and linked to the settlement web site www.RNCsettlement.com. The web site contains important pleadings, other documents, and notices previously sent to the Class as well as the complete Partial Settlement Agreement including Appendix D.

A. If You Are on the List but Wish To Be Removed

If for some reason you do not wish to share in this settlement, and believe you were incorrectly added to the Provisional List, you may perfect a challenge by sworn affidavit delivered to Counsel for Plaintiffs and Counsel for Defendants within thirty (30) days of receipt of this Notice.

Opposing counsel may dispute the challenge before the Magistrate, whose decision shall be final as to matters of fact but not of law.

B. If You Are Not on the List but Wish To Be Included

Any tribal entity which does not appear on the Provisional List and which believes it is eligible to receive a share of the Net Common Fund must file a statement certifying under oath under penalty of perjury that: (1) It had a Public Law 93-638 contract, self-governance compact or tribally controlled school grant with the BIA during any year of the fiscal or calendar years 1989 through 1993; and (2) had an OIG-approved indirect cost rate or a BIA-approved lump sum agreement for indirect costs during any of the same years. The response must state that the said representations are true and correct to the best of the signatory's knowledge, information, and belief. The statement must also be accompanied by documentary proof (e.g., contract award documents, IDC rate agreements, independent audits, etc.) showing these elements for each year the entity claims to have had such contracts, compacts, or school grants and indirect cost rate agreements or lump sum agreements during the settlement period. The statements and proofs must be received no later than sixty (60) days after the date of publication of this Notice and shall also be served on Defendants' counsel within the same period. Challenges to inclusion or exclusions from the Provisional List by other Class Members are not permitted.

Entities seeking to be added to the Provisional List must send the attached Claim Form with supporting documentation within the 60-day deadline to:

Rogoff Erickson Diamond & Walker, LLP, Ramah Navajo Chapter Class Action Settlement Administrator, 6401 Jefferson NE, Post Office Box 93659, Albuquerque, New Mexico 87199-3656; 1-888-726-9418

John W. Zavitz, Assistant United States Attorney, Post Office Box 607, Albuquerque, New Mexico 87103

C. Who Is Entitled To Share in the Allocation?

Only Class Members who actually received “other-federal-agency” funds as that term is used in the Partial Settlement Agreement during one or more of the settlement years (fiscal or calendar years 1989 through 1993) are eligible for an allocation from the Net Common Fund. The allocations will be made on the basis of each Class Member's level of “other-federal-agency” funding compared with that of the entire Class for each settlement year. The definition of “other-federal-agency” funds is set out at paragraph 3.a of the Partial Settlement Agreement which can be viewed on the Class website or the linked settlement website.

III. Need To Submit Timely Claim Form

To substantiate eligibility, each Class Member must submit to the Independent CPA sufficient financial information about its Federal funding for each of the settlement years. The preferred information is your ‘Schedule of Federal Financial Assistance” from each year's single agency audit.

The Independent CPA will also accept copies of your final indirect cost agreements with attachments, or indirect cost rate proposals, other Federal agency contracts or grants, or proof of receipt of payments from other Federal agencies in a form acceptable to the Independent CPA.

If your entity cannot locate any ‘Schedule of Federal Financial Assistance” you must send in the attached ‘Lack of Documentation Certification.” The Independent CPA may be contacted for more information about the documents needed. If Class Members cannot locate the documents, defendants will provide copies of the single agency audit—Schedule of Federal Financial Assistance or other documents (e.g., indirect cost agreements or proposals), pursuant to paragraph 9(b) of Appendix D to the PSA if those documents can be located in government files. However, each Class Member is the best source for the information sought. It is therefore incumbent on each Class Member to make the best effort possible to locate the data and documents required.

You must return the completed Claim Form within sixty (60) days of the date of publication of this Notice. Audit data received from Class Members will be kept confidential pursuant to paragraph 9(c) of Appendix D. Entities for whom the required documents are not received may not receive an allocation.

If the Court, on petition, later finds that the methodology for distribution based on “other Federal agency funds” is unworkable, too costly, or not beneficial to the interests of the Class, some other method may be substituted after notice and an opportunity for hearing objections.

Following the expiration of the response periods set forth in this Notice, the Class Independent CPA will determine the Final List of Class Members who may be eligible for an allocation under the Partial Settlement Agreement.

Unless Class Members timely provide necessary documentation to the Settlement Administrator/Independent CPA they may not receive any share of the Net Common Fund attributable to the year or years for which there is insufficient data.

IV. DCA Tribes

The Partial Settlement Agreement approved by the Court recertified the Class to include only those Public Law 93-638 contractors, compactors, or school grantees which had negotiated indirect cost rates during the settlement years with OIG or a lump sum agreement for contract support with BIA. Class Counsel submitted the agreement to the Court for review and approval, several DCA tribes approached Class Counsel to register their belief that they should be included in the Class for allocation purposes. This followed a settlement approved by the Court with one DCA tribe which had filed a timely objection to the settlement on this point. In order to facilitate approval of the overall settlement, Class Counsel entered into a conditional agreement with these tribes as follows: After notice to the Class, hearing by the Court, and Court approval, DCA tribes will be eligible for individual allocations from the Reserve Account established in paragraph 7.d of the Partial Settlement Agreement up to a collective capped amount of $900,000 based on the same criteria as apply to other Class Members. DCA tribes will not, however, become Class Members for any other purpose including eligibility for allocations from any future Class Common Fund in this case. The parties believe this arrangement will not impact the OIG tribes significantly in view of the fact that the Reserve Account of $1,000,000 is to be supplemented under paragraph 7.e of the Partial Settlement Agreement by interest earned on the Net Common Fund. To date the interest earned for the two and one-half months since receipt of the settlement proceeds has exceeded $900,000.00. Class Counsel and the CPA have estimated the costs of distribution of the Net Common Fund to be approximately $550,000.00. Thus, the full amount reasonably expected to be needed to pay for distribution plus the maximum capped allocations to the DCA tribes is already available or close to being available. Any remaining balance in the Reserve Account will be returned to the Net Common Fund for general distribution.

Any Class Member wishing to object to the conditional settlement agreement with DCA tribes may do so by filing a written objection stating its name, responsible officer, or attorney, address, telephone number, and reasons for objection with the Clerk of the District Court for the District of New Mexico, 333 Lomas NW, Albuquerque, New Mexico 87102, in a pleading using the caption above within thirty (30) days of the date of publication of this Notice. In addition, any such objection must be served on Class Counsel and Defendants' counsel within the same time period. Service shall be directed as follows:

Michael P. Gross, Class Counsel, 460 St. Michael's Drive, Bldg. 300, Santa Fe, New Mexico 87505

John W. Zavitz, Assistant U.S. Attorney, Post Office Box 607, Albuquerque, New Mexico 87103

V. Hearing

A hearing on objections to the proposed DCA settlement will be conducted by the Honorable C. LeRoy Hansen, U.S. District Judge, at the U.S. Courthouse, 333 Lomas NW, Albuquerque, New Mexico on March 15, 2000, at 9 a.m. Objectors must indicate in their written objections whether they intend to appear in person or through an attorney at the hearing. The date and time of the hearing may be changed without notice. Class Members are therefore advised to check with the Court prior to attending the hearing.

VI. New Claims

On September 30, 1999 (Docket #347), the Court approved motions for intervention and for amendment of the complaint to add an additional named Class representative and an additional claim for damages caused by shortfalls in payment of indirect costs. The new representative is the Oglala Sioux Tribe, which stated in its motion that it is, by information and belief, the only Class Member to have exhausted its administrative remedies for general shortfall claims back to FY 1992. The new claim asks for relief for shortfalls in indirect costs (contract support) based on BIA's failure to pay the amounts agreed in the annual indirect cost agreements with OIG. This claim augments the original claim litigated to date based on shortfalls created by incorrectly depressing indirect cost rates through improper inclusion of other federal agency funds in the direct cost base making up the indirect cost rate.

The new claim significantly expands the possible damages to which the Class will be eligible should it prevail. The new claim was among those reserved and not released in the Partial Settlement Agreement. The new claim involves the same legal issue as the remaining claim litigated to date. Any Class Member wishing to opt out of the Class (insofar only as the new claim is concerned) may do so by filing a statement with the Clerk of the Court within thirty (30) days of the date of publication of this Notice with service of upon Class Counsel and Defendants' Counsel within the same time period in the manner specified in part II. Provisional List Of Class Members And Procedure For Challenge.

Any questions regarding the Plan of Allocation for the Partial Settlement Agreement Common Fund should be directed to: Rogoff Erickson Diamond & Walker, L.L.P., Ramah Class Action Settlement CPA, Post Office Box 93659, Albuquerque, New Mexico 87199-3659; 1-888-726-9418 website: www.rncsettlement.com e-mail: rncsettlement@redw.com.

Any other questions regarding this Notice should be directed to Class Counsel below:

Class Counsel: Michael P. Gross, 460 St. Michael's Drive, #300, Santa Fe, New Mexico 87505; (505) 983-6686, (505) 989-1096 fax, e-mail: mpgross@santa-fe.net

Co-Class Counsel: C. Bryant Rogers, Roth, VanAmberg, Rogers, Ortiz, Fairbanks & Yepa, LLP, 347 East Palace Avenue, Post Office Box 1447, Santa Fe, New Mexico 87504-1447; (505) 988-8979, (505) 983-7508 fax, e-mail: rogers@ trail.com

Approved as to form (Telephonically Approved 12/14/99) by John W. Zavitz, Assistant United States Attorney, Defendant's Counsel.

Dated: January 21, 2000.
Kevin Gover,
Assistant Secretary—Indian Affairs.

Control#

United States District Court for the District of New Mexico

Ramah Navajo Chapter et al. v. Bruce Babbitt et al.

[CIV No. 90-00957 LH/WWD]

Claim Form

(Please type or print)

Note: This claim form must be postmarked no later than sixty (60) days after publication of this notice in the Federal Register.

Part I

Class member information required by partial settlement agreement, appendix D, art. III, 8.b.4.

Name of federally-recognized tribe or tribal organization

Contact person

Mailing address

City

State

Zip Code

Area Code

Telephone Number

Area Code

Fax Number

E-mail address

Taxpayer Identification Number

___Federally-Recognized Tribe

___Tribal Organization

Name of federally-recognized tribe or tribal organization

Attached in support of this claim are the following documents:

| FY 1989 | FY 1990 | FY 1991 | FY 1992 | FY 1993
Schedule of Federal Financial Assistance for Single Agency Audit, OR |  |  |  |  |
Indirect Cost Agreement (final), OR |  |  |  |  |
Lump Sum Agreement Indirect Cost Proposal, OR |  |  |  |  |
Other |  |  |  |  |

If your entity cannot locate its Schedule of Federal Assistance for a specific settlement year but believe it is qualified to receive an allocation, you must submit the attached “Lack of Documentation Certification.”

Part II

If you are not on the provisional list of class members and wish to be included, you must fill out part I above and this part II with supporting documentation and sign under penalty of perjury:

The above entity,

(name of federally-recognized tribe or tribal organization)

was incorrectly omitted from the Provisions List of Class Members because (1) it had a Public Law 93-638 contract, self-governance compact or tribally controlled school grant with the BIA during any year of the fiscal or calendar years 1989 through 1993, and (2) had an OIG-approved indirect cost rate or a BIA-approved lump sum agreement for indirect costs during any of the same years. True and accurate copies of documents showing the entity's entitlement to be added to the list are attached.

Name of federally-recognized tribe or tribal organization

These representations are true and correct to the best of the undersigned signatory's knowledge, information, and belief.

Signature of Responsible Official

Print Name

State of

Social Security

County of

The foregoing was duly sworn to and subscribed before me this day by __________ known to me to be that person whose name appears above, this ____ day of ______, 2000.

Notary Public (Seal)

My Commission Expires:

Control #

Ramah Navajo Chapter et al. v. Bruce Babbitt et al.

[90-00957 LH/WWD]

Lack of Documentation Certification

I,

(Name)

the

(Position)

of the

(Federally-Recognized Tribe or Tribal Organization)

To comply with the Allocation/Distribution Methodology Appendix D of the Partial Settlement Agreement dated August 31, 1998, I (we) hereby certify that our tribe/tribal organization does not have or is not able to retrieve its Schedule of Federal Assistance for the following settlement years: (please mark appropriate box(es))

1989 ___

1990 ___

1991 ___

1992 ___

1993 ___

We have ____ or have not ____ attached other documents to support our Claim Form.

Signature

Date

State of

ss.

County of

The foregoing was duly sworn to and subscribed before me this day by __________, known to me to be that person whose name appears above, this ____ day of ______, 2000.

Notary Public

(Seal)

My Commission Expires:

Accurate claims processing takes a significant amount of time. Thank you for your patience.

Reminder Checklist

• Please sign the above declaration.

• Remember to attach requested documentation that applies to your situation.

• Please sign and notarize the Lack of Documentation form if you lack required documents for any of the settlement years.

• Keep a copy of your claim forms for your records.

• If you desire an acknowledgment of receipt of your claim form, please send it Certified Mail, Return Receipt Requested.

• Please notify us of any change in telephone or address.

If you have any questions, please direct them to the Settlement Administrator: Ramah Navajo Chapter Settlement Administrator, Rogoff Erickson Diamond & Walker, LLP, P.O. Box 93659, Albuquerque, NM 87199-3659; (888) 726-9418

Telephone Contacts: Sarah Lee, Susan Hansen; E-mail: rncsettlement@redw.com.

Ramah Navajo Chapter V. Babbitt

CIV No. 90-00957 LH/WWD

Provisional List

Absentee-Shawnee Executive Committee

Acoma Pueblo

Afognak Native Village

AGDAAGUX TRIBE OF KING COVE

Agua Caliente Band of Cahuilla Indians

AHFACHKEE DAY SCHOOL

AHMIUM EDUCATION INC

Ak Chin Indian Community

AK CHIN INDIAN COMMUNITY COUNCIL

Akhiok Village

Akiachak Native Community (IRA)

AKIAK NATIVE COMMUNITY (IRA)

Akutan Village

Alabama-Coushatta Tribal Council

Alabama-Quassarte Tribal Town

Alakanuk Village

ALAMO NAVAJO SCHOOL BOARD INC

Alamo-Navajo Indian Reservation

Alatna Village

Aleknagik Village

ALEUT COMMUNITY OF ST PAUL ISLAND

ALEUTIAN/PROBOLOF ISLAND ASSOCIATION INC

Algaaciq Village (Aka St Marys)

ALL INDIAN PUEBLO COUNCIL

Allakaket Village

Alturas Rancheria

Ambler Village

AMERICAN INDIAN CENTER OF CENTRAL CALIFORNIA

AMERICAN INDIAN CHILD RESOURCE CENTER

Anaktuvuk Pass Village

ANDREAFSKY VILLAGE

Aneth Chapter

Angoon Village (IRA)

Aniak Village

Anvik Village

Apache Tribe of Oklahoma

Arapaho Business Council

Arctic Slope Community

Arctic Village

Aroostook Band of Micmac Indians

Asa'Carsarmiut Tribe

Assiniboine and Sioux Tribes of Fort Peck

ASSOCIATION OF VILLAGE COUNCIL PRESIDENTS INC

Atka Village (IRA)

Atmuathluak Village

Atqasuk Village

ATSA'BI'YAAZH COMMUNITY SCHOOL

AUBURN RANCHERIA

Augustine Band of Mission Indians

Baca/Haystack Chapter

Bad River Band of Lake Superior Chippewa Indians of Wisconsin

BAHWETING ANISHINABE SCHOOL

Barona—Capitan Grande Diegueno Tribe

Barrow Village

Battle Mountain Band Council

Bay Mills Indian Community

Beadsprings Chapter

Bear River Band of Rohnerville Rancheria

BEATRICE RAFFERTY SCHOOL

Beaver Village

Becenti Chapter

Beclabito Chapter

Belkofski Village

BENTON PAIUTE RESERVATION

Berry Creek Rancheria of Maidu Indians

Bethel Native Council

Big Lagoon Rancheria

Big Pine Band of the Owens Valley

Big Sandy Rancheria of Mono Indians

Big Valley Rancheria

Bill Moore's Slough

Birch Creek Village

Birdsprings Chapter

Bishop Indian Tribal Council

Black Mesa Chapter

BLACK MESA COMMUNITY SCHOOL

Blackfeet Tribe

Blue Lake Rancheria

BOARD OF DIRECTORS TRENTON INDIAN SERVICE AREA

Bodaway Chapter

Bois Forte Reservation Business Committee

BOQUE CHITTO ELEMENTARY SCHOOL

Brevig Mission Village

Bridgeport Paiute Indian Colony

Buckland Village (IRA)

Buena Vista Rancheria of Mewuk Indians

BUG-O-NAY-GE-SHIG SCHOOL

Burnham Chapter

Burns-Paiute General Council

BUTTE COUNTY OFFICE OF EDUCATION

Cabazon Band of Mission Indians

Cachil Dehe Band of Wintun Indians

Caddo Tribe of Oklahoma

Cahto Indian Tribe

Cahuilla Band of Indians

Cameron Chapter

Campo Band of Mission Indians

Canoncito Chapter

Cantwell Village

Capitan Grande Band of Mission Indians

CARSON COLONY COMMUNITY COUNCIL

Casamero Lake Chapter

Catawba Indian Nation

CATAWBA INDIAN TRIBE

Cayuga Nation

CEDARVILLE RANCHERIA

Cedarville Rancheria of Northern Paiute Indians

Tlingit and Haida Central Council

CENTRAL TRIBES OF THE SHAWNEE AREA INC

CENTRAL UNION ELEMENTARY SCHOOL DISTRICT

Chalkyitsik Village

CHAWANAKEE JOINT UNITED SCHOOL DISTRICT

Chefornak Village

CHEHALIS BUSINESS COUNCIL

Chemehuevi Tribal Council

Chenega Bay Village (IRA)

Cher-Ae Heights Indian Community

CHEROKEE BOY'S CLUB INC

CHEROKEE CENTRAL ELEMENTARY SCHOOL

Cherokee Nation of Oklahoma

Chevak Village

Cheyenne River Sioux Tribe

Cheyenne-Arapaho Tribe

Chichiltah Chapter

Chickaloon Village

Chickasaw Nation of Oklahoma

Chicken Ranch Band of Me-Wuk Indians

CHICO RANCHERIA

CHIEF LESCHI SCHOOL SYSTEM(PUYALLUP)

Chignik Lagoon Village

Chignik Lake Village

Chignik Village

Chilkat Indian Village (IRA)

Chilkoot Indian Assn (IRA)

Chinik Eskimo Community

Chinlchinbeto Chapter

Chinle Chapter

Chippewa-Cree Tribe

Chistochina Village

CHITIMACHA DAY SCHOOL

Chitimacha Tribe of Louisiana

Chitina Village

CHOCTAW CENTRAL MIDDLE SCHOOL

Choctaw Nation of Oklahoma

CHOTAW CENTRAL HIGH SCHOOL

CHOTAW FIELD OFFICE

Chuathbaluk Village

CHUGACH REGIONAL RESC COMMISSION

CHUGACHIUT INC

Chuloonawick Native Village

Church Rock Chapter

CIBECUE COMMUNITY SCHOOL

Circle Native Community (IRA)

CIRCLE OF LIFE SURVIVAL SCHOOL

CIRCLE OF NATIONS WAHPETON—INDIAN BOARDING SCHOOL

Citizen Band Potawatomi Tribe

Clarks Point Village

Cloverdale Rancheria of Pomo Indians

CLOVIS UNIFIED SCHOOL DISTRICT

Coalmine Mesa Chapter

Coast Indian Community (Resighini Rancheria)

Cochiti Pueblo

Cocopah Tribal Council

Coeur d'Alene Tribal Council

COEUR D'ALENE TRIBAL SCHOOL

Cold Springs Rancheria of Mono Indians

Colorado River Tribal Council

COLUSA COUNTY OFFICE OF EDUCATION

COLUSA RANCHERIA

COLVILLE BUSINESS COUNCIL

Comanche Tribe of Oklahoma

CONEHATTA ELEMENTARY SCHOOL

Confederated Salish & Kootenai Tribal Council

Confederated Tribes of Coos, Lower Umpqua, & Siuslaw Indians

Confederated Tribes of Siletz of Oregon

Confederated Tribes of the Colville Reservation

Confederated Tribes of the Grand Ronde Tribal Council

Confederated Tribes of The Warm Springs Reservation

Confederated Tribes of Umatilla Indian Reservation

CONSORTIUM INC

COOK INLET TRIBAL COUNCIL

Copper Center Village

COPPER RIVER NATIVE ASSOCIATION INC

Coppermine

Coquille Indian Tribe

Cornfields Chapter

Cortina Indian Rancheria of Wintun Indians

Council Village

Counselor Chapter

COUNTY INDIAN HEALTH INC

Coushatta Tribe

Cove Chapter

Cow Creek Band of Umpqua Indians

Coyote Canyon

Coyote Valley Tribal Council

Craig Community Assn (IRA)

Crooked Creek Village

Crow Creek Sioux

CROW CREEK SIOUX TRIBAL HIGH SCHOOL

Crow Tribe of Indians of Montana

Crownpoint Chapter

Crystal Chapter

Cudeii Chapter

CURYUNG TRIBAL COUNCIL

Cuyapaipe Band of Mission Indians

Deering Village (IRA)

Delaware Tribe of Indians of East OK

Delaware Tribe of Western Oklahoma

DELAWARE TRUST BOARD

Dennehotso Chapter

Dilkon Chapter

Dillingham Village

Diomede Village (IRA)

Dot Lake Village

Douglas Indian Assn (IRA)

Dry Creek Rancheria

DUCK VALLEY SHOSHONE-PAIUTE TRIBES

DUCKWATER SHOSHONE ELEMENTARY SCHOOL

Duckwater Shoshone Tribal Council

Eagle Village (IRA)

Eastern Band Of Cherokee Indians

Eastern Shawnee Tribe Of Oklahoma

Eastern Shoshone Tribe

Eek Village

Egegik Village

EIGHT NORTHERN INDIAN PUEBLOS COUNCIL

Eklutna Village

Ekuk Village

Ekwok Village

Elem Indian Colony of Pomo Indians

Elim Village (IRA)

Elk Valley Rancheria

Elko Band Council

Ely Indian Colony of Western Shoshone

Emmonak Village

ENEMY SWIM DAY SCHOOL

Enterprise Rancheria of Estom Yumeka Maidu

Evansville Village

Eyak Village

FAIRBANKS NATIVE ASSOCIATION

Fallon Colony

False Pass Village

FLAGSTAFF DORMITORY

Flandreau Santee Sioux

FOND DU LAC BAND OF LAKE SUPERIOR CHIPPEWA

FOND DU LAC OJIBWE SCHOOL

Fond du Lac Reservation Business Committee

Forest County Potawatomi Executive Council

Forest Lake Chapter

Fort Belknap Tribal Council

Fort Bidwell Indian Community of Paiute Indians

Fort Defiance Chapter

FORT HALL BUSINESS COUNCIL

Fort Independence Paiute Indian Community

Fort McDermitt Tribal Council

Fort McDowell Mohave-Apache Indian Community

Fort Mojave Indian Tribe

FORT PECK TRIBAL EXECUTIVE BOARD

Fort Sill Apache Tribe of Oklahoma

Fort Yukon Village (IRA)

Gakona Village

Galena Village

Gambell Village

Ganado Chapter

Georgetown Village

Gila River Pima-Maricopa Indian Community Council

Goodnews Bay Village

Confederated Tribes of the Goshute Reservation

Grand Portage Reservation Business Committee

Grand Traverse Band of Ottawa & Chippewa Indians

Grayling Village (IRA) (Holikachuk)

GREASEWOOD SPRINGS COMMUNITY SCHOOL INC

Greenville Rancheria of Maidu Indians

GREYHILLS ACADEMY HIGH SCHOOL

Grindstone Indian Rancheria of Wintun-Nomolaki

Fort Belknap Indian Community Gros Ventre & Assiniboine Tribes

Guidiville Band of Pomo Indians

Gulkana Village

Hamilton Village

HANNAHVILE INDIAN SCHOOL

Hannahville Indian Community Council

Hard Rock Chapter

HAVASUPAI SCHOOL

Havasupai Tribal Council

Healy Lake Village

Ho-Chunk Nation

Hogback Chapter

Hoh Tribe

Holy Cross Village

Hoonah Indian Assn (IRA)

Hoopa Valley Tribe

Hooper Bay Village

HOPI DAY SCHOOL

HOPI HIGH SCHOOL

Hopi Tribal Council

Hopland Band of Pomo Indians

HOTEVILLA BACAVI COMMUNITY SCHOOL

Houck Chapter

Houlton Band of Maliseet Indians

Hualapai Tribal Council

Huerfano Chapter

Hughes Village

HURON POTAWATOMI INC

Huslia Village

Hydaburg Cooperative Assn (IRA)

Igiugig Village

Iliamna Village

Inaja-Cosmit Band of Mission Indians

INDIAN CHILD & FAMILY SERVICES

INDIAN HEALTH COUNCIL INC

INDIAN ISLAND SCHOOL

INDIAN TOWNSHIP SCHOOL

INDIAN TOWNSHIP—PASSAMAQUODDY

Indian Wells Chapter

Inscription House Chapter

INTER-TRIBAL COUNCIL OF CA INC

INUPIAT COMMUNITY OF ARCTIC SLOPE (IRA)

Ione Band of Miwok Indians

Iowa Tribe Of Kansas-Nebraska

Iowa Tribe of Oklahoma

Iqurmuit Village (Russian Mission)

Isleta Pueblo

Ivanof Bay Village

Iyanbito Chapter

Jackson Band of Mi-Wuk Indians

JACKSON RANCHERIA

Jamestown S'Klallam Tribal Council

Jamul Indian Village

Jeddito Chapter

Jemez Pueblo

Jena Band of Choctaws

Jicarilla Apache Tribe

JICARILLA DORMITORY

JOINT TRIBAL COUNCIL

Kaguyak Village

Kaibab-Paiute Tribal Council

Kaibeto Chapter

Kake Village

Kaktovik Village

Kalispel Tribe

Kalskag Village

Kaltag Village

Kanatak Native Village

Karluk Village (IRA)

Karuk Tribe of California

Kasaan Village (IRA)

Kashia Band of Pomo Indians

Kasigluk Village

Kaw Nation of Oklahoma

KAWERAK INC

Kayenta Chapter

Kenai Village (IRA)

Ketchikan Indian Corporation (IRA)

Keweenaw Bay Indian Community

Kialegee Tribal Town

Kiana Village

KIAWOCK CORPORATIVE ASSN (IRA)

Kickapoo Traditional Tribe of Texas

Kickapoo Tribe of Kansas

Kickapoo Tribe of Oklahoma

King Cove Village

King Island Native Community (IRA)

KINGS CANYON UNIFIED SCHOOL DISTRICT

Kinlichee Chapter

Kiowa Tribe of Oklahoma

Kipnuk Village

Kivalina Village (IRA)

Klagetoh Chapter

Klamath General Council

Klawock Cooperative Assn (IRA)

Knik Village

Kobuk Village

KODIAK AREA NATIVE ASSOCIATION

KODIAK TRIBAL COUNCIL

Kokhanok Village

Koliganek Village

Kongiganak Village

Kootenai Tribal Council

Kotlik Village

Kotzebue Village (IRA)

Koyuk Village (IRA)

Koyukuk Village

KUIGPAGMIUT INC

KUSKOKWIM NATIVE ASSOCIATION

Kwethluk Village (IRA)

Kwigillingok Village (IRA)

Kwinhagak Village (IRA) (Aka Quinhagak)

La Jolla Band of Indians

La Posta Band of Mission Indians

Lac Courte Oreilles Indian Reservation

LAC COURTE OREILLES OJIBWA SCHOOL

Lac du Flambeau Tribal Council

Lac Vieux Desert Band of Lake Superior Chippewa

LAGUNA MIDDLE SCHOOL

Laguna Pueblo

Lake Valley Chapter

Larsen Bay Village

Las Vegas Tribal Council

LAYTONVILLE RANCHERIA

LeChee Chapter

Leech Lake Reservation Business Committee

Leisnoi Village (aka Woody Island)

Leupp Chapter

LEUPP SCHOOLS INC

Levelock Village

Lime Village

Little River Band of Ottawa Indians Inc

LITTLE SINGER COMMUNITY SCHOOL

Little Traverse Bay Bands of Odawa Indians

Little Water Chapter

LITTLE WOUND SCHOOL

LONE PINE RESERVATION

LONEMAN DAY SCHOOL

Los Coyotes Band of Mission Indians

LOUDEN TRIBAL COUNCIL

Lovelock Tribal Council

Low Mountain

LOWER BRULE DAY SCHOOL

Lower Brule Sioux

Lower Elwha Community Council

Lower Greasewood Chapter

Lower Kalskag Village

Lower Sioux Indian Community Council

LOWER SIOUX INDIAN COMMUNITY OF MINNESOTA

Lukachukai Chapter

Lummi Nation

LUMMI TRIBAL SCHOOL SYSTEM

Lupton Chpter

Lytton Band of Pomo Indians

MAINEINDIAN EDUCATION

Makah Tribal Council

MAKAH TRIBE

Manchester-Point Arena Band of Pomo Indians

MANDAREE DAY SCHOOL

MANIILAQ ASSOCIATION

Manley Hot Springs Village

Manokotak Village

Manuelito Chapter

Many Farms Chapter

Manzanita Band of Mission Indians

Mariano Lake Chapter

Marshall Village

MARTY INDIAN SCHOOL

MARYSVILLE JOINT UNION SCHOOL DISTRICT

Mashantucket Pequot Tribe

Mc Grath Native Village

Mechoopda Indian Tribe

Mekoryuk Village (IRA)

MENOMINEE FORESTRY CENTER

Menominee Indian Tribe of Wisconsin

MENOMINEE TRIBAL SCHOOL

Mentasta Lake Village

Mesa Grande Band of Mission Indians

MESCALERO APACHE SCHOOL

Mescalero Apache Tribe

Metlakatla Indian Community Council

Mexican Springs Chapter

Mexican Water Chapter

Miami Tribe of Oklahoma

MICCOSUKEE INDIAN SCHOOL

Miccosukee Tribe of Florida Indians

Middletown Rancheria of Pomo Indians

Mille Lacs Reservation Business Committee

Minnesota Chippewa Tribal Executive Committee

Minto Village (IRA)

Mississippi Band of Choctaw Indians

Moapa Business Council

Modoc Tribe of Oklahoma

MOHAVE-APACHE COMMUNITY COUNCIL

Mohegan Tribe of Indians of Connecticut

Mooretown Rancheria

Morongo Band of Mission Indians

Muckleshoot Tribal Council

MUCKLESHOOT TRIBAL SCHOOL

Muscogee (Creek) Nation of Oklahoma

Nageezi Chapter

Nahodishgish/Dalton Pass Chapter

Naknek Village

Nambe Pueblo

Nanwalek Village (IRA)

Napaimute Village

Napakiak Village (IRA)

Napaskiak Village

Narragansett Indian Tribe

Naschitti Chapter

NATIVE AMERICAN FAMILY SERVICES INC

Navajo Mountain

Navajo Nation

NAVAJO PREPARATORY SCHOOL

NAY-AH-SHING SCHOOL

Nazlini Chapter

Nelson Lagoon Village

Nenahnezah Chapter

Nenana Village

NETT LAKE RESERVATION (BOIS FORTE) TRIBE

NEW KOLIGANEK VILLAGE COUNCIL

New Lands (Nahathdzill) Chapter

New Stuyahok Village

Newcomb Chapter

Newhalen Village

Newtok Village

Nez Perce Tribe

Nightmute Village

Nikolai Village

Nikolski Village (IRA)

Ninilchik Village

Nisqually Indian Community Council

Noatak Village (IRA)

NOLI SCHOOL

NOME ESKIMO COMMUNITY

Nome Eskimo Community (IRA)

Nondalton Village

Nooksack Indian Tribal Council

Noorvik Village (IRA)

NOOTSACK INDIAN TRIBAL COUNCIL

North Fork Rancheria of Mono Indians

NORTHEN PUEBLOS TRIBUTARY WATER RIGHTS ASSOCIATION

NORTHERN CHEYENNE TRIBAL SCHOOLS

Northern Cheyenne Tribe

Northway Village

NORTHWEST INDIAN FISHERIES COMMISSION

Northwestern Band of Shoshoni Nation

Nottawaseppi Huron Potawatomi Band

Nuiqsut Village

Nulato Village

Nunapitchuk Village (IRA)

Oak/Pine Springs Chapter

Oglala Sioux Tribe

Ohogamiut Village

OJIBWA INDIAN SCHOOL

Ojo Encino Chapter

Old Harbor Village

Oljato Chapter

Omaha Tribe of Nebraska

Oneida Indian Nation Of New York

Oneida Tribal Council of Wisconsin

ONEIDA TRIBAL SCHOOL

Onondaga Nation

ORUTSARARMUIT NATIVE COUNCIL

Osage Tribe of Indians of Oklahoma

Oscarville Village

Otoe-Missouria Tribal Council

Ottawa Tribe of Oklahoma

Ouzinkie Village

OWENS VALLEY CAREER DEVELOP CENTER

OWENS VALLEY INDIAN WATER COMMISSION

Paimiut Village

Paiute Indian Tribe Of Utah

Paiute-Shoshone Indians of the Lone Pine Community

Pala Band of Mission Indians

PASCHAL SHERMAN INDIAN SCHOOL

Pascua Yaqui Tribal Council

Paskenpa Band of Nomelaki Indians

Passamaquoddy Tribe—Indian Township

Passamaquoddy Tribe—Pleasant Point

Pauloff Harbor Village

Pauma Band of Mission Indians

Pawnee Tribe of Oklahoma

Pechanga Band of Lusieno Mission Indians

Pedro Bay Village

Penobscot Nation

Peoria Indian Tribe of Oklahoma

Perryville Village (IRA)

Petersburg Indian Assn (IRA)

Picayune Rancheria of Chukchansi Indians

Picuris Pueblo

PIERRE INDIAN LEARNING CENTER

Pilot Point Village

Pilot Station Village

Pine Dale Chapter

PINE HILLS DAY SCHOOL

Pinoleville Band of Pomo Indians

Pinon Chapter

PINON COMMUNITY SCHOOL BOARD INC

Pit River Tribe of California

Pit River Tribe of California—Big Bend

Pit River Tribe of California—Likely

Pit River Tribe of California—Lookout

Pit River Tribe of California—Montgomery Creek

Pit River Tribe of California—Roaring Creek

Pit River Tribe of California—XL

Pitka's Point Village

Platinum Traditional Village

Poarch Band of Creek Indians

Point Hope Village (IRA)

Point Lay Village (IRA)

POINT NO POINT TREATY COUNCIL

Pojoaque Pueblo

Pokagon Band of Potawatomi Indians of Michigan

Ponca Tribe of Nebraska

Ponca Tribe of Oklahoma

PORCUPINE DAY SCHOOL

Port Gamble S'Klallam Tribe

Port Graham Village

Port Heiden Village

Port Lions Village

Portage Creek Village

Potter Valley Rancheria of Pomo Indians

Prairie Band Potawatomi Tribe of Kansas

Prairie Island Community Council

Pribilof Islands Aleut Communities

Pueblo Pintado

PUEBLO OF SANTA CLARA

Puyallup Tribal Council

PYRAMID LAKE HIGH SCHOOL

Pyramid Lake Paiute Tribal Council

Qagun Tayagungin Sand Point

Qawalangin Tribe (of Unalaska)

Quapaw Tribe of Oklahoma

Quartz Valley Indian Community

Quechan Tribal Council

Quileute Tribal Council

QUILEUTE TRIBAL SCHOOL

Quinault Indian Nation

RAMAH NAVAJO SCHOOL BOARD INC

Ramah-Navajo Chapter

RAMONA

Ramona Band of Mission Indians

Rampart Village

REAL RIVER ELEMENTARY SCHOOL

Red Cliff Tribal Council

Red Devil Village

Red Lake Band of Chippewa Indians

Red Lake Chapter

Red Mesa Chapter

Red Rock Chapter

Red Valley Chapter

RED WATER ELEMENTARY SCHOOL

Redding Rancheria

Redwood Valley Rancheria

Reno-Sparks Indian Colony

RESERVATION FIRE PROTECTION DISTRICT

RICHFIELD DORMITORY

Rincon San Luiseno Band of Mission Indians

ROBINSON RANCHERIA

Robinson Rancheria Business Council

Rock Point Chapter

ROCK POINT COMMUNITY SCHOOL

Rock Springs Chapter

ROSEBUD DORMITORIES

Rosebud Sioux Tribe

ROSELAND SCHOOL DISTRICT

Rough Rock Chapter

ROUGH ROCK COMMUNITY SCHOOL

Round Rock Chapter

Round Valley Tribes

ROUNDHOUSE COUNCIL

Ruby Village

Rumsey Indian Rancheria of Wintun Indians

SAC & FOX SETTLEMENT SCHOOL

Sac and Fox Nation of Oklahoma

Sac and Fox of Missouri Tribal Council

SAC AND FOX TRIBAL OF THE MISSISSIPPI IN IOWA

Sac and Fox Tribe of the Mississippi in Iowa

Saginaw Chippewa Tribal Council

Saint George Village

Saint Michael Village (IRA)

Saint Paul Village

Salamatof Village

Salt River Pima-Maricopa Indian Tribe

Samish Tribe of Indians

San Carlos Apache Tribal Council

San Felipe Pueblo

San Ildefonso Pueblo

San Juan Chapter

San Juan Pueblo

San Juan Southern Paiute Council

SAN LORENZO UNIFIED SCHOOL DISTRICT

San Manuel Band of Mission Indians

San Pasqual Band of Mission Indians

SAN XAVIER DISTRICT OF THE TOHONO O'ODHAM NATION

Sandia Pueblo

Sanostee Chapter

Santa Ana Pueblo

Santa Clara Pueblo

SANTA CLARA UNIFIED SCHOOL DISTRICT

SANTA FE INDIAN SCHOOL

Santa Rosa Band of Cahuilla Indians

Santa Rosa Indian Community

Santa Ynez Band of Mission Indians

SANTA YNEZ INDIAN HEALTH CLINIC

Santa Ysabel Band of Diegueno Indians

Santee Sioux Tribe of Nebraska

Santo Domingo Pueblo

Sauk-Suiattle Tribal Council

Sault Ste Marie Chippewa Tribal Council

Savoonga Village (IRA)

Sawmill Chapter

Saxman Village (IRA)

Scammon Bay Village

Scotts Valley Band of Pomo Indians

SECOND MESA DAY SCHOOL

Selawik Village (IRA)

Seldovia Village Tribe (IRA)

Seminole Nation of Oklahoma

Seminole Tribe of Florida

Seneca Nation of Indians

Seneca-Cayuga Tribe of Oklahoma

Shageluk Village (IRA)

SHAKOPEE MDEWAKANTON SIOUX COMMUNITY

Shakopee Sioux Business Council

Shaktoolik Village (IRA)

Sheep Ranch Band of Me-Wuk Indians

Sheepsprings Chapter

Sheldon Point Village

Sherwood Valley Rancheria

Shingle Springs Rancheria

Shiprock Chapter

SHIPROCK NORTHWEST HIGH SCHOOL

SHIPROCK RESERVATION DORMITORY

Shishmaref Village (IRA)

Shoalwater Bay Tribal Council

SHO-BAN SCHOOL DISTRICT NO 512

Shonto Chapter

SHONTO PREPARATORY SCHOOL

SHOSHONE BUSINESS COUNCIL

Shoshone Paiute Business Council

Shoshone-Bannock Tribe

Shungnak Village (IRA)

SINTE GLESKA COLLEGE

Sisseton-Wahpeton Sioux Tribe

Sitka Village (IRA)

Skagway Traditional Council

Skokomish Tribal Council

SKULL VALLEY BAND OF GOSHUTE INDIANS

Skull Valley General Council

Sleetmute Village

Smith Lake Chapter

Smith River Rancheria of California

Soboba Band of Mission Indians

SOBOBO BAND OF MISSION INDIANS

Sokaogon Chippewa Tribal Council

SOLOMON TRADITIONAL COUNCIL

Solomon Village

South Fork Band Council

South Naknek Village

SOUTHERN CALIFORNIA INDIAN CENTER

SOUTHERN CALIFORNIA TRIBAL CHAIRMAN'S ASSOCIATION INC

SOUTHERN INDIAN HEALTH COUNCIL INC

Southern Ute Tribe

Spirit Lake Sioux Tribe

Spokane Tribe

Squaxin Island Tribal Council

ST FRANCIS INDIAN SCHOOL

ST GEORGE ISLAND

ST STEPHENS INDIAN SCHOOL

St. Croix Council of Wisconsin

St. Micheals

St. Regis Mohawk Tribe

STANDING PINE ELEMENTARY SCHOOL

Standing Rock Chapter

Standing Rock Sioux Tribe

STAR ROUTE BOX 158

Steamboat

Stebbins Village (IRA)

Stevens Village (IRA)

STEWART COMMUNITY COUNCIL

STEWARTS POINT RANCHERIA

Stillaguamish Board of Directors

Stockbridge-Munsee Tribal Council

STOCKTON UNIFIED SCHOOL DISTRICT

Stoney River Village

SUMMERVILLE ELEMENTARY SCHOOL

Summit Lake Paiute Council

Suquamish Tribal Council

Susanville Indian Rancheria

Sweetwater Chapter

Swinomish Indian Tribal Community

Sycuan Band of Mission Indians

Table Bluff Reservation of Wiyot Indians

Table Mountain Rancheria

Tachee/Blue Gap Chapter

TAKINA SCHOOL

Takotna Village

Tanacross Village (IRA)

TANANA CHIEFS CONFERENCE INC

Tanana Village (IRA)

Taos Pueblo

TATE TOPA TRIBAL SCHOOL (FOUR WINDS)

Tatitlek Village (IRA)

Tazlina Village

TeecNosPos Chapter

Teesto Chapter

Telida Village

Teller Village

Te-Moak Tribe of Western Shoshone

Tesuque Pueblo

Tetlin Village (IRA)

THE HOPI CREDIT ASSOCIATION

THEODORE JAMERSON ELEMENTARY SCHOOL

THEODORE ROOSEVELT SCHOOL

Thlopthlocco Tribal Town

Thoreau Chapter

Three Affiliated Tribes

Timbisha Shoshone Band

TIOSPA ZINA TRIBAL SCHOOL

Togiak Village

Tohatchi Chapter

TOHONO O'ODHAM HOUSING AUTHORITY

Tohono O'Odham Tribal Council

TOIYABE INDIAN HEALTH PROJECT INC

Toksook Bay Village

Tolani Lake Chapter

Tonalea Chapter

Tonawanda Band of Senecas

Tonkawa Tribe of Oklahoma

Tonto Apache Tribal Council

Torreon/Star Lake Chapter

Torres-Martinez Band of Mission Indians

TRENTON SCHOOL

TRINIDAD RANCHERIA

Tsaile/Wheatfields Chapter

Tsayatoh Chapter

Tselani/Cottonwood Chapter

Tuba City Chapter

TUCKER ELEMENTARY SCHOOL

Tulalip Tribes of Washington

Tule River Indian Tribe

Tuluksak Village (IRA)

Tunica-Biloxi Indian Tribe Of Louisiana

Tuntutuliak Village

Tununak Village (IRA)

TUOLUMNE RANCHERIA

Turtle Mountain Band of Chippewa

TURTLE MOUNTAIN COMMUNITY COLLEGE

TURTLE MOUNTAIN HIGH SCHOOL

Tuscarora Nation

TUSCARORA NATION

Twenty-Nine Palms Band of Mission Indians

TWIN BUTTES DAY SCHOOL

Twin Hills Village

Twin Lakes Chapter

TWO EAGLE RIVER SCHOOL

Two Grey Hills Chapter

Tyonek Village (IRA)

U tu Utu Gwaitu Paiute Tribe

Ugashik Village

Uintah and Ouray Tribal Business Committee

UMKUMIUT NATIVE VILLAGE

Unalakleet Village (IRA)

UNGA TRIBAL COUNCIL

Unga Village

United Auburn Indian Community

UNITED CROW BAND INC

United Keetoowah Band in Oklahoma

UNITED SIOUX TRIBES

UNITED TRIBES TECHNICAL COLLEGE

UNITED VILLAGES INC

Upper Fruitland Chapter

Upper Lake Band of Pomo Indians

UPPER LAKE RANCHERIA

Upper Sioux Community

Upper Skagit Tribal Council

UTE INDIAN TRIBE

Ute Mountain Ute Tribe

VALDEZ NATIVE ASSOCIATION

Venetie Tribal Government

Venetie Village (IRA)

VIEJAS (BARON LONG)

Viejas Band of the Kumeyaay Nation

WA HE LUT INDIAN SCHOOL

Wainwright Village

Wales Village (IRA)

Walker River Paiute Tribal Council

Wampanoag Tribe of Gay Head (Aquinnah)

Washoe Tribe—Carson Colony Community Council

Washoe Tribe—Dresslerville Community Council

Washoe Tribe—Stewart Community Council

Washoe Tribe—Woodfords Colony

Washoe Tribe of Nevada and California

Wells Indian Colony Band Council

WESTERN APACHE CONSTRUCTION COMPANY

Whippoorwill

White Cone

White Earth Reservation Business Committee

White Mountain Apache Tribal Council

White Mountain Village (IRA)

White Rock Chapter

WHITE SHIELD SCHOOL

Whitehorse Lake

Wichita and Affiliated Tribes

WICHITA AND AFFILIATED TRIBES

Wide Ruins Chapter

Winnebago Tribe of Nebraska

Winnemucca Colony Indian Reservation

WOODFORDS COMMUNITY COUNCIL

WOUNDED KNEE DISTRICT SCHOOL

Wrangell Cooperative Assn (IRA)

Wyandotte Tribe of Oklahoma

Yakama Tribal Council

YAKAMA TRIBAL SCHOOL

Yakutat Village

Yankton Sioux Tribe

Yavapai-Apache Nation

Yavapai-Prescott Board of Directors

Yerington Paiute Tribal Council

Yomba Tribal Council

Ysleta Del Sur Pueblo

Yupiit of Andreafski

Yurok Tribe of California

Zia Pueblo

Zuni Pueblo

[FR Doc. 00-2205 Filed 2-1-00; 8:45 am]

BILLING CODE 4310-02-P